DEPARTMENT OF THE INTERIOR

Fish and Wildlife Service

Notice of Availability of the Record of Decision To Authorize Issuance of a Section 10 Permit to the Salt River Project for Incidental Take of Southwestern Willow Flycatcher, Yuma Clapper Rail, Bald Eagle, and Yellow-Billed Cuckoo in Gila and Maricopa Counties, AZ

AGENCY: U.S. Fish and Wildlife Service, Department of the Interior.

ACTION: Notice of availability.

SUMMARY: Pursuant to the National Environmental Policy Act (NEPA), this notice advises the public that the U.S. Fish and Wildlife Service (Service) has issued an incidental take permit (ITP), pursuant to section 10(a)(1)(B) of the Endangered Species Act of 1973, as amended (Act), to the Salt River Project (SRP). The permit authorizes the incidental take of the following federally listed and candidate species: Southwestern willow flycatcher (Empidonax traillii extimus)(flycatcher), Yuma clapper rail (Rallus longirostris yumanensis) (clapper rail), bald eagle (Haliaeetus leucocephalus), and the yellow-billed cuckoo (Coccyzus americanus)(cuckoo). The authorized take will occur in Gila and Maricopa counties, Arizona, as a result of management actions allowing Roosevelt Lake to fill, causing inundation of occupied habitat. The Service issued an Environmental Impact Statement (EIS) that evaluated the impacts of alternatives considered prior to issuance of the ITP. SRP submitted the Roosevelt Habitat Conservation Plan (RHCP) and Implementing Agreement with their permit application. These documents describe measures to minimize and mitigate the effects of the taking of listed and candidate species and the habitats upon which they depend.

The Record of Decision became effective on February 27, 2003. It states that the preferred alternative, as described in the Final EIS, will be implemented, and discusses all factors leading to the decision.

ADDRESSES: The Record of Decision for the SRP can be accessed on the Internet at http://southwest.fws.gov/htopic.html or viewed at the following locations (by appointment at government offices):

• Department of the Interior, Natural Resources Library, 1849 C. St. NW., Washington, DC 20240.

• U.S. Fish and Wildlife Service, 110 S. Church, Suite 3450, Tucson, AZ 85701.

• U.S. Fish and Wildlife Service, 2321 West Royal Palm Road, Suite 103, Phoenix, AZ 85021.

• Salt River Project, 1521 Project Drive, Tempe, AZ 85281.

• Globe Public Library, 339 S. Broad St., Globe, AZ 85501.

• Government Document Service, Arizona State University, Tempe, AZ 85287.

• Payson Public Library, 328 N. McLane Road, Payson, AZ 85541-4340.

• Phoenix Public Library (Burton Barr Central), 1221 N. Central Ave., Phoenix, AZ 85004.

• Tonto Basin Library, 1 School St., Tonto Basin (Punkin Center), AZ 85553.

FOR FURTHER INFORMATION CONTACT: Ms. Sherry Barrett, Assistant Field Supervisor, Tucson Suboffice, U.S. Fish and Wildlife Service, 110 S. Church, Suite 3450, Tucson, AZ 85701 at 520/670-4617.

SUPPLEMENTARY INFORMATION: This notice advises the public that the Service gathered the information necessary to (1) determine impacts and formulate alternatives for the EIS, related to the issuance of an ITP to SRP; and (2) develop and implement the RHCP, which describes measures to minimize and mitigate the effects of the incidental take of federally listed species to the maximum extent practicable.

The Notice of Availability for the draft EIS, Application for the ITP, draft RHCP, and draft Implementing Agreement was published in the Federal Register on July 19, 2002 (67 FR 47564).

The Notice of Availability for the Final EIS, Final RHCP, and Implementing Agreement was published in the Federal Register on November 29, 2002 (67 FR 71193).

Background: Roosevelt is operated by SRP in conjunction with three other reservoirs on the Salt River and two reservoirs on the Verde River as integral features of the Salt River Reclamation Project, authorized by the Reclamation Act of 1902, and pursuant to a 1917 contract with the United States. Since completion in 1911, Roosevelt has provided water for power generation, irrigation, municipal and other uses. Currently, SRP reservoirs supply water to more than 1.6 million people in the cities of Phoenix, Mesa, Chandler, Tempe, Glendale, Gilbert, Scottsdale, Tolleson, and Avondale. In addition, water is provided to irrigate agricultural lands within SRP and for other uses. Also, water is delivered to the Salt River Pima-Maricopa Indian Community, Fort McDowell Indian Community, Gila River Indian Community, Buckeye Irrigation Company, Roosevelt Irrigation District, Roosevelt Water Conservation District, and others. Roosevelt and the other SRP reservoirs also provide a variety of recreational uses and environmental benefits in central Arizona. Due to dry conditions in central Arizona for the past six years, the water level at Roosevelt has been below normal. As a result, riparian vegetation has invaded and flourished in the portion of Roosevelt historically used by SRP to store water for use in the Phoenix metropolitan area. Animals that use riparian habitat have followed the vegetation growth and now occupy areas within the reservoir. In particular, a population of flycatchers now occupies habitat within the storage space at Roosevelt. Thus, periodic refilling of the reservoir may adversely affect habitat used by the flycatcher, clapper rail, bald eagle, and cuckoo.

Bryan Arroyo,
Acting Regional Director, Southwest Region.

[FR Doc. 03-14677 Filed 6-10-03; 8:45 am]

BILLING CODE 4510-55-P